DEPARTMENT OF ENERGY

Federal Energy Regulatory Commission

[Docket No. RP03-66-000]

MIGC, Inc.; Notice of Proposed Changes in FERC Gas Tariff

November 13, 2002.

Take notice that on November 7, 2002, MIGC, Inc. (MIGC) tendered for filing as part of its FERC Gas Tariff, First Revised Volume No.1, the following tariff sheets, to become effective January 1, 2003:

First Revised Sheet No. 17

First Revised Sheet No. 32

Third Revised Sheet No. 48

Original Sheet No. 90F

MIGC asserts that the purpose of this filing is to clarify, consistent with Commission policy, the specific types of transportation discounts that may be granted by MIGC in a manner consistent with FERC-approved discounts on other pipelines. The revised tariff sheets modify the General Terms and Conditions (GTC) of MIGC's Tariff which are applicable to the various throughput Rate Schedules and add a reference to the provisions in the rate schedules. By including this additional language in the GTC, MIGC seeks to avoid the need for filing individual discount agreements on the grounds that they contain “material deviations” from the pro forma service agreements, consistent with the Commission's rulings in Natural Gas Pipeline Company of America, 84 FERC

• 61,099 (1998), Columbia Gas Transmission Corp., 92 FERC ] 61,080 (2000) and subsequent orders. The identification of the types of discounts to which MIGC and an individual shipper may agree will clarify MIGC's flexibility to provide the services required to meet competitive market conditions.

In addition to its ability to agree to a basic discount from the stated maximum rates, MIGC proposes to create a new Section 26 in the General Terms and Conditions of its Tariff entitled “Types of Discounting” which reflects the various kinds of discounts MIGC may give to meet competitive circumstances. For example, MIGC may provide a specified discounted rate: to certain specified quantities under the Service Agreement; if specified quantity levels are actually achieved or with respect to quantities below a specified level; to production reserves committed by the Shipper; during specified time periods; to specified points of receipt, points of delivery, supply areas, transportation paths or defined geographical areas; in a specified relationship to the quantities actually transported (i.e., that the rates shall be adjusted in a specified relationship to quantities actually transported); or to provide a specified discount rate to provide for upward or downward adjustments to rate components to achieve an agreed-upon overall rate so long as all rate components remain within their respective minimum and maximum amounts, may be made only prospectively, and may not affect the determination of refunds that may be due under applicable law for the time prior to the adjustment of such components.

In all circumstances the discounted rate shall be between the maximum rate and minimum rate applicable to the service provided.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-29281 Filed 11-18-02; 8:45 am]

BILLING CODE 6717-01-P